DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before August 20, 2013.

ADDRESSES: You may send comments to Mary A. Wood, Alcohol and Tobacco Tax and Trade Bureau, at any of these addresses:

• U.S. mail: 1310 G Street NW., Box 12, Washington, DC 20005;

• Hand delivery/courier in lieu of mail: 1310 G Street NW., Suite 200E, Washington, DC 20005;

• 202-453-2686 (facsimile); or

• formcomments@ttb.gov (email).

Please send separate comments for each specific information collection listed below. You must reference the information collection's title, form or recordkeeping requirement number, and OMB number (if any) in your comment. If you submit your comment via facsimile, please send no more than five 8.5 x 11 inch pages in order to ensure that our equipment is not overburdened.

FOR FURTHER INFORMATION CONTACT: To obtain additional information, copies of the information collection and its instructions, or copies of any comments received, contact Mary A. Wood, Alcohol and Tobacco Tax and Trade Bureau, 1310 G Street NW., Box 12, Washington, DC 20005; or telephone 202-453-1039, ext. 165.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following TTB surveys, forms, and recordkeeping requirements:

Title: Brewer's Notice Letterhead Applications and Notices Filed by Brewers.

OMB Control Number: 1513-0005.

TTB Form Number: 5130.10.

TTB Recordkeeping Number: 5130/2.

Abstract: The Internal Revenue Code requires brewers to file a notice of intent to operate a brewery. TTB F 5130.10 is similar to a permit and, when approved by TTB, is a brewer's authorization to operate. Letterhead applications and notices are necessary to identify brewery activities so that TTB may ensure that proposed operations do not jeopardize Federal revenues.

Current Actions: We are submitting this information collection as a revision. The total estimated number of burden hours has increased as a result of an increase in the estimated number of respondents.

Type of Review: Revision of a currently approved collection.

Affected Public: Business or other for-profit.

Estimated Number of Respondents: 2,974.

Estimated Total Annual Burden Hours: 14,870.

Title: Principal Place of Business on Beer Labels.

OMB Control Number: 1513-0085.

TTB Record Number: 5130/5.

Abstract: TTB regulations require the name and address of the brewer to appear on the labels of kegs, bottles, and cans of domestic beer. The regulations permit domestic brewers who operate more than one brewery to show their “principal place of business” as their address on such labels. The brewer may use this labeling option in lieu of showing the actual place of the beer's production or in lieu of listing all of the brewer's locations on the label.

Current Actions: We are submitting this information collection for extension purposes only. The information collection and estimated total annual burden hours are unchanged. The estimated number of respondents and estimated number of responses have changed, but those changes do not affect the total burden hours.

Type of Review: Extension of a currently approved collection.

Affected Public: Business or other for-profit.

Estimated Number of Respondents: 2,974.

Estimated Total Annual Burden Hours: One (1).

Title: Marks on Equipment and Structures, and Marks, Brands, and Labels on Containers of Beer.

OMB Control Number: 1513-0086.

TTB Record Numbers: 5130/3 and 5130/4.

Abstract: Marks, signs, and calibrations are necessary on equipment and structures for identifying major equipment, for accurate determination of tank contents, and for the segregation of taxpaid and nontaxpaid beer. Marks, brands, and labels on containers of beer are necessary to inform consumers of container contents and to identify the brewer and place of production. TTB's marking and labeling requirement are activities that respondents perform in the normal course of business, so we are not placing any additional burden on the respondents.

Current Actions: We are submitting this information collection for extension purposes only. The information collection and estimated total annual burden hours are unchanged. The number of respondents and responses has changed, but this does not affect the burden hours.

Type of Review: Extension of a currently approved collection.

Affected Public: Business or other for-profit.

Estimated Number of Respondents: 2,974.

Estimated Total Annual Burden Hours: One (1).

Title: Pay.gov User Agreement.

OMB Control Number: 1513-0117.

TTB Form Number: 5000.31.

Abstract: The Pay.gov User Agreement is used to identify, validate, approve, and register qualified users so they may submit electronic forms via the Pay.gov system.

Current Actions: We are submitting this information collection as a revision. The estimated number of responses and the estimated total annual burden hours have decreased because the number of respondents has decreased.

Type of Review: Revision of a currently approved collection.

Affected Public: Business or other for-profit.

Estimated Number of Responses: 2,126.

Estimated Total Annual Burden Hours: 177.17.

Title: Surveys for Permits Online (PONL), Formulas Online (FONL), and COLAs (Certificate of Label Approvals) Online.

OMB Control Number: 1513-0124.

TTB Form and Record Number: None.

Abstract: In an effort to improve customer service, TTB uses surveys to keep track of its customer service quality and progress, as well as to identify potential needs, problems, and opportunities for improvement. TTB customer service surveys have primarily been administered using telephone interviews, but TTB wishes to instead administer these surveys via email and its online systems. TTB has selected a few of the questions used in the current telephone surveys to create its email and online surveys, which results in a reduction of this information collection's estimated burden. The interviewees continue to be applicants for permits and current permittees, pursuant to the Federal Alcohol Administration Act, the Internal Revenue Code, and TTB regulations, but we are adding applicants for COLAs and formulas pursuant to the same. Responses are voluntary. TTB intends to administer the email surveys through Survey Monkey, which is a system used by other Federal Government agencies to conduct customer service surveys.

Current Actions: We are submitting this information collection as a revision. The information collections, the estimated number of responses, and the estimated total annual burden hours have changed because we have changed the amount of information being collected, and we have changed the method of collection.

Type of Review: Revision of a currently approved collection.

Affected Public: Business or other for-profit.

Estimated Number of Responses: 5,245.

Estimated Total Burden Hours: 856.

Title: Distilled Spirits Bond.

OMB Control Number: 1513-0125.

TTB Form Number: 5110.56.

Abstract: This form is used by Distilled Spirits Plants (DSPs) and Alcohol Fuel Plants to file bond coverage with TTB. Using this form, these plants may file coverage and/or withdraw coverage for one plant or multiple plants. DSPs may file this bond and include operations coverage for adjacent wine cellars. The bond may be secured through a surety company or it may be secured with collateral (cash, Treasury Bonds, or Treasury Notes). The bond protects the revenue assigned to distilled spirits on which excise tax has not been paid. Should the industry member fail to pay its tax liability, including any penalties and interest, TTB may obligate the funds used to secure the bond to satisfy the debt.

Current Actions: We are submitting this information collection as a revision. The estimated number of responses and the estimated total annual burden hours have increased as a result of an increase in the number of respondents.

Type of Review: Revision of a currently approved collection.

Affected Public: Business or other for-profit; Farms.

Estimated Number of Responses: 1,000.

Estimated Total Annual Burden Hours: 775.

Amy R. Greenberg,
Assistant Director, Regulations and Rulings Division.

[FR Doc. 2013-14913 Filed 6-20-13; 8:45 am]

BILLING CODE 4810-31-P